DEPARTMENT OF AGRICULTURE

Forest Service

Eastern Region Recreation Resource Advisory Committee

AGENCY: Forest Service, USDA.

ACTION: Notice of meeting.

SUMMARY: The Eastern Region Recreation Resource Advisory Committee (Recreation RAC) is scheduled to meet via conference call. The Recreation RAC is authorized pursuant with the Federal Lands Recreation Enhancement Act (the Act) and the Federal Advisory Committee Act (FACA). Information for the Recreation RAC may be found by visiting the Web site at: http://www.fs.usda.gov/main/r9/recreation/racs.

DATES: The meeting will be held on Thursday, September 28, 2017, from 1:00 p.m. to 3:00 p.m. Eastern Standard Time.

All Recreation RAC meetings are subject to cancellation. For status of the meeting prior to attendance, please contact the person listed under the FOR FURTHER INFORMATION CONTACT.

ADDRESSES: The meeting will be held via teleconference. Participants who would like to attend by teleconference should contact the person listed under FOR FURTHER INFORMATION CONTACT.

Written comments may be submitted as described under SUPPLEMENTARY INFORMATION. All comments, including names and addresses, when provided, are placed in the record and available for public inspection and copying. The public may inspect comments received at the Eastern Region, Regional Office, 626 East Wisconsin Avenue, Milwaukee, Wisconsin. Please call 541-860-8048 to facilitate entry into the building.

FOR FURTHER INFORMATION CONTACT: Joanna Wilson, Eastern Region Recreation RAC Coordinator, by phone at 541-860-8048, or by email at jwilson08@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to further a discussion on regional recreation fee pricing consistency. The meeting is open to the public. The agenda will include time for people to make oral statements of three minutes or less at the Friday portion of the meeting starting at 2:00 p.m. Individuals wishing to make an oral statement should request in writing by September 25, 2017, to be scheduled on the agenda. Anyone who would like to bring related matters to the attention of the Recreation RAC may file written statements with the Committee's staff before or after the meeting. Written comments and time requests to make oral comments must be sent to Joanna Wilson, Eastern Region Recreation RAC Coordinator, 855 South Skylake Drive, Woodland Hills, Utah 84653; or by email to jwilson08@fs.fed.us.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: June 12, 2017.
Glenn Casamassa,
Associate Deputy Chief, National Forest System.

[FR Doc. 2017-14134 Filed 7-5-17; 8:45 am]

BILLING CODE 3411-15-P